DEPARTMENT OF ENERGY

Federal Energy Regulatory Commission

Combined Notice of Filings #1

Take notice that the Commission received the following exempt wholesale generator filings:

Docket Numbers: EG13-43-000.

Applicants: Battery Utility of Ohio, LLC.

Description: Notice of Self-Certification of Exempt Wholesale Generator Status of Battery Utility of Ohio, LLC.

Filed Date: 6/11/13.

Accession Number: 20130611-5133.

Comments Due: 5 p.m. ET 7/2/13.

Take notice that the Commission received the following electric rate filings:

Docket Numbers: ER10-1569-003; ER12-21-007; ER10-2783-005; ER10-2784-005; ER11-2855-007; ER10-2791-005; ER10-2792-005; ER10-1564-004; ER10-1565-004; ER10-2795-005; ER10-2798-005; ER10-1575-003; ER10-2799-005; ER10-2801-005; ER11-3727-004; ER10-1566-004; ER12-2413-003; ER11-2062-004; ER10-1291-005; ER10-2812-004; ER10-2843-003; ER11-4307-004; ER12-1711-004; ER10-2846-005; ER12-261-003; ER10-2871-003; ER13-1136-002; ER10-2875-005; ER10-1568-004; ER10-1581-006; ER10-2876-005; ER10-2878-005; ER10-2879-005; ER10-2880-005; ER10-2888-005; ER10-2896-005; ER10-2913-005; ER10-2914-005; ER10-2916-005; ER10-2915-005; ER12-1525-004; ER12-2019-003; ER12-2398-003; ER10-1582-003; ER11-3459-003; ER10-2931-005; ER10-2969-005; ER11-4308-004; ER10-1580-006; ER11-2856-007; ER11-2857-007; ER10-2947-005; ER11-2504-003; ER11-2505-003; ER11-2864-003; ER11-2506-003; ER11-2508-003; ER12-2137-003; ER11-2510-003; ER12-2545-003; ER11-2863-003; ER11-2854-003; ER11-2513-003; ER11-2515-003; ER11-2742-003; ER11-2784-003; ER11-2805-003; ER10-3143-006.

Applicants: NRG Power Marketing LLC, NRG Power Marketing LLC, Agua Caliente Solar, LLC, Arthur Kill Power LLC, Astoria Gas Turbine Power LLC, Avenal Park LLC, Bayou Cove Peaking Power LLC, Big Cajun I Peaking Power LLC, Cabrillo Power I LLC, Cabrillo Power II LLC, Conemaugh Power LLC, Connecticut Jet Power LLC, Cottonwood Energy Company, LP , Devon Power LLC, Dunkirk Power LLC, El Segundo Energy Center LLC, El Segundo Power, LLC, Energy Alternatives Wholesale, LLC, Energy Plus Holdings LLC, GenCon Devon LLC, GenCon Energy LLC, GenCon Middletown LLC, Green Mountain Energy Company, High Plains Ranch II, LLC, Huntley Power LLC, Independence Energy Group LLC, Indian River Power LLC, Ivanpah Master Holdings, LLC, Keystone Power LLC, Long Beach Generation LLC, Long Beach Peakers LLC, Louisiana Generating LLC, Middletown Power LLC, Montville Power LLC, NEO Freehold-Gen LLC, Norwalk Power LLC, NRG Energy Center Dover LLC, NRG Energy Center Paxton LLC, NRG New Jersey Energy Sales LLC, NRG Rockford LLC, NRG Rockford II LLC, NRG Solar Alpine LLC, NRG Solar Avra Valley LLC, NRG Solar Borrego I LLC, NRG Solar Blythe LLC, NRG Solar Roadrunner LLC, NRG Sterlington Power LLC, Oswego Harbor Power LLC, Reliant Energy Northeast LLC, Saguaro Power Company, A Limited Partnership, Sand Drag LLC, Sun City Project, Vienna Power LLC, GenOn Bowline, LLC, GenOn Canal, LLC, GenOn Chalk Point, LLC, GenOn Delta, LLC, GenOn Energy Management, LLC, GenOn Florida, LP, GenOn Kendall, LLC, GenOn Marsh Landing, LLC, GenOn Mid-Atlantic, LLC, GenOn Potomac River, LLC, GenOn Power Midwest, LP, GenOn REMA, LLC, GenOn West, LP, GenOn Wholesale Generation, LP, RRI Energy Services, LLC, Sabine Cogen, LP.

Description: Notice of Non-Material Change in Status of NRG Power Marketing LLC, et al.

Filed Date: 6/11/13.

Accession Number: 20130611-5148.

Comments Due: 5 p.m. ET 7/2/13.

Docket Numbers: ER12-1653-003.

Applicants: New York Independent System Operator, Inc.

Description: NYISO refiling of Order No 755 tariff revisions to set effective date to be effective 6/26/2013.

Filed Date: 6/11/13.

Accession Number: 20130611-5132.

Comments Due: 5 p.m. ET 7/2/13.

Docket Numbers: ER13-1662-000.

Applicants: Electric Energy, Inc.

Description: Modification No. 23 to be effective 6/1/2013.

Filed Date: 6/11/13.

Accession Number: 20130611-5114.

Comments Due: 5 p.m. ET 7/2/13.

Docket Numbers: ER13-1663-000.

Applicants: Southern California Edison Company.

Description: Revised Added Facilities Rate for Agmts under WDAT to be effective 1/1/2013.

Filed Date: 6/11/13.

Accession Number: 20130611-5116.

Comments Due: 5 p.m. ET 7/2/13.

Docket Numbers: ER13-1664-000.

Applicants: Midcontinent Independent System Operator, Inc.

Description: 06-11-13 MISO name change filing.v2 to be effective 6/1/2013.

Filed Date: 6/11/13.

Accession Number: 20130611-5121.

Comments Due: 5 p.m. ET 7/2/13.

Docket Numbers: ER13-1665-000.

Applicants: Novo BioPower LLC.

Description: Novo Biopower, LLC Market-Based Rate Tariff Initial Filing to be effective 7/1/2013.

Filed Date: 6/11/13.

Accession Number: 20130611-5123.

Comments Due: 5 p.m. ET 7/2/13.

Docket Numbers: ER13-1666-000.

Applicants: Southern California Edison Company.

Description: GIA and Distribution Serv Agmt with Chevron Products Company to be effective 5/11/2013.

Filed Date: 6/11/13.

Accession Number: 20130611-5124.

Comments Due: 5 p.m. ET 7/2/13.

Docket Numbers: ER13-1667-000.

Applicants: Battery Utility of Ohio, LLC.

Description: Application for Market-Based Rate Authorization to be effective 8/11/2013.

Filed Date: 6/11/13.

Accession Number: 20130611-5130.

Comments Due: 5 p.m. ET 7/2/13.

Docket Numbers: ER13-1668-000.

Applicants: PCF2, LLC.

Description: Notice of Cancellation to be effective 6/12/2013.

Filed Date: 6/11/13.

Accession Number: 20130611-5134.

Comments Due: 5 p.m. ET 7/2/13.

Docket Numbers: ER13-1669-000.

Applicants: Calpine Power America—OR, LLC.

Description: Notice of Cancellation to be effective 6/12/2013.

Filed Date: 6/11/13.

Accession Number: 20130611-5135.

Comments Due: 5 p.m. ET 7/2/13.

Docket Numbers: ER13-1670-000.

Applicants: CES Marketing V, LLC.

Description: Notice of Succession to be effective 6/12/2013.

Filed Date: 6/11/13.

Accession Number: 20130611-5136.

Comments Due: 5 p.m. ET 7/2/13.

Take notice that the Commission received the following electric securities filings:

Docket Numbers: ES13-23-000.

Applicants: New Hampshire Transmission, LLC.

Description: New Hampshire Transmission, LLC's Amendment to May 7, 2013 Application for Authorization to Issue Long-Term Debt Securities under Section 204.

Filed Date: 6/11/13.

Accession Number: 20130611-5145.

Comments Due: 5 p.m. ET 6/21/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 12, 2013.
Nathaniel J. Davis, Sr.,
Deputy Secretary.

[FR Doc. 2013-14575 Filed 6-18-13; 8:45 am]

BILLING CODE 6717-01-P